DEPARTMENT OF DEFENSE

Department of the Army

Board of Visitors, United States Military Academy (USMA)

AGENCY: Department of the Army, DoD.

ACTION: Notice of open meeting.

SUMMARY: In accordance with Section 10(a)(2) of the Federal Advisory Committee Act (Pub. L. 92-463), announcement is made of the following committee meeting:

Name of Committee: Board of Visitors, United States Military Academy.

Date: Wednesday, January 31, 2007.

Place of Meeting: Veterans Affairs Conference room, Room 418, Senate Russell Building, Washington, DC.

Start Time of Meeting: Approximately 9 a.m.

FOR FURTHER INFORMATION CONTACT: Lieutenant Colonel Shaun T. Wurzbach, United States Military Academy, West Point, NY 10996-5000, (845) 938-4200.

SUPPLEMENTARY INFORMATION: Proposed Agenda: Organizational Meeting of the Board of Visitors. Review of the Academic, Military and Physical Programs at the USMA. Elections for Board of Visitor Leadership positions will also be held. All proceedings are open.

Brenda S. Bowen,
Army Federal Register Liaison Officer.

[FR Doc. 06-9596 Filed 12-07-06; 8:45 am]

BILLING CODE 3710-08-M